DEPARTMENT OF HEALTH AND HUMAN SERVICES

National Institutes of Health

Submission for OMB Review; 30-Day Comment Request; Evaluation of the Enhancing Diversity of the NIH-Funded Workforce Program (NIGMS)

SUMMARY: Under the provisions of Section 3507(a)(1)(D) of the Paperwork Reduction Act of 1995, the National Institutes of Health (NIH) has submitted to the Office of Management and Budget (OMB) a request for review and approval of the information collection listed below. This proposed information collection was previously published in the Federal Register, September 28, 2015, pages 58270-58271, and allowed 60-days for public comment. One public comment was received. The purpose of this notice is to allow an additional 30 days for public comment. The National Institute of General Medical Sciences (NIGMS), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30-days of the date of this publication.

FOR FURTHER INFORMATION CONTACT: To obtain a copy of the data collection plans and instruments or request more information on the proposed project contact: Dr. Michael Sesma, Chief, Postdoctoral Training Branch, Division of Training, Workforce Development, and Diversity, NIGMS, 45 Center Drive, Room 2AS43H, Bethesda, MD 20892, or call non-toll-free number (301) 594-3900, or Email your request, including your address to: msesma@nigms.nih.gov. Formal requests for additional plans and instruments must be requested in writing.

Proposed Collection: Evaluation of the Enhancing the Diversity of the NIH-funded Workforce Program Consortium (DPC), 0935-NEW National Institute of General Medical Sciences (NIGMS), National Institutes of Health (NIH).

Need and Use of Information Collection: The goal of the DPC is to address a unique and compelling need identified by NIH, namely to enhance the diversity of well-trained biomedical research scientists who can successfully compete for NIH research funding and/or otherwise contribute to the NIH-funded scientific workforce. The DPC is a national collaborative through which awardee institutions, in partnership with NIH, aim to enhance diversity in the biomedical research workforce through the development, implementation, assessment and dissemination of innovative and effective approaches to: (a) Student outreach, engagement, training, and mentoring, (b) faculty development, and (c) institutional research training infrastructure. The Coordination and Evaluation Center (CEC) will evaluate the efficacy of the training and mentoring approaches implemented across a variety of contexts and populations and will disseminate information to the broader research community. The planned consortium-wide data collection and evaluation will provide comprehensive information about the multi-dimensional factors (individual, institutional, and faculty/mentor) that influence student and faculty success, professional development, and persistence within biomedical research career paths across a variety of contexts. The planned data collection, and the resulting findings, is projected to have a sustained, transformative effect on biomedical research training and mentoring nationwide.

OMB approval is requested for 3 years. There are no costs to respondents other than their time. The total estimated annualized burden hours are 61,950.

Estimated Annualized Burden Hours
A.12.1: Annualized estimate of hour burden: Type of respondents | A.12.1: Annualized estimate of hour burden: Number of respondents | A.12.1: Annualized estimate of hour burden: Frequency of resonse | A.12.1: Annualized estimate of hour burden: Average time per response (in hours) | A.12.1: Annualized estimate of hour burden: Annual hour burden
BUILD Student—Entrance Survey (Version A:HERI Freshman Survey [Attachment 8a], Version B: HERI Freshman Survey for Non-Freshman Transfers [Attachment 8b]) | 15,000 | 1 | 45/60 | 11,250
BUILD Student—Follow-up survey at the end of the first attendance year (HERI Your First College Year; Attachment 10) | 15,000 | 1 | 45/60 | 11,250
BUILD Student—Follow-up survey at graduation (HERI College Senior Survey; Attachment 11) | 15,000 | 1 | 45/60 | 11,250
BUILD Student Annual Follow-up Survey (Attachment 12):
a. 2015 Cohort | 5,000 | 3 | 25/60 | 6,250
b. 2016 Cohort | 5,000 | 2 | 25/60 | 4,167
c. 2017 Cohort | 5,000 | 1 | 25/60 | 2,083
BUILD Faculty Survey (HERI Faculty Survey; Attachment 13) | 500 | 1 | 45/60 | 375
BUILD Faculty Annual Follow-up survey (Attachment 14) | 500 | 2 | 25/60 | 417
BUILD Mentee Mentor Assessment (Attachment 15) | 1,000 | 3 | 10/60 | 500
BUILD Institutional Research & Program Data Requests (Attachment 25) | 10 | 3 | 16 | 480
BUILD Implementation Reports (Attachment 26) | 10 | 3 | 16 | 480
BUILD Site Visits (Attachment 23) | 120 | 3 | 24 | 8,640
BUILD Case Studies Preparation (Attachment 23) | 24 | 1 | 40 | 960
BUILD Case Study Interviews (Attachment 23):
a. Undergraduate Students | 170 | 1 | 90/60 | 255
b. Graduate/post-doctoral students | 70 | 1 | 90/60 | 105
c. PI's, Program Managers/Directors, & Faculty | 162 | 1 | 90/60 | 243
NRMN Mentee Annual Follow-up Surveys (Attachment 18)
a. 2016 student cohort | 375 | 3 | 25/60 | 469
b. 2016 faculty cohort | 100 | 3 | 25/60 | 125
c. 2017 student cohort | 375 | 2 | 25/60 | 313
d. 2017 faculty cohort | 100 | 2 | 25/60 | 83
e. 2018 student cohort | 375 | 1 | 25/60 | 156
f. 2018 faculty cohort | 100 | 1 | 25/60 | 42
NRMN Mentor Annual Follow-up Surveys (Attachment 17):
a. 2016 Cohort | 375 | 3 | 25/60 | 469
b. 2017 Cohort | 375 | 2 | 25/60 | 313
c. 2018 Cohort | 375 | 1 | 25/60 | 156
NRMN Mentees—Program specific modules for tracking survey: Mentee Assessment of Mentor (Attachment 15), Research & Grant Writing (Attachment 20), Institutional Context (Attachment 22):
a. 2016 student cohort | 375 | 3 | 10/60 | 188
b. 2016 faculty cohort | 100 | 3 | 10/60 | 50
c. 2017 student cohort | 375 | 2 | 10/60 | 125
d. 2017 faculty cohort | 100 | 2 | 10/60 | 33
e. 2018 student cohort | 375 | 1 | 10/60 | 63
f. 2018 faculty cohort | 100 | 1 | 10/60 | 17
NRMN Mentors—Program specific modules for tracking survey: Mentor Skills (Attachment 19), Coaching Training (Attachment 21), Institutional Context (Attachment 22):
a. 2016 Cohort | 375 | 3 | 10/60 | 188
b. 2017 Cohort | 375 | 2 | 10/60 | 125
c. 2018 Cohort | 375 | 1 | 10/60 | 63
NRMN site visits (Attachment 24) | 1 | 6 | 16 | 96
NRMN Case Study Interviews (Attachment 24):
a. Investigators | 37 | 3 | 1 | 111
b. Mentors | 30 | 1 | 1 | 30
c. Student mentees | 15 | 1 | 1 | 15
d. Faculty mentees | 15 | 1 | 1 | 15
Total | 67,764 | 90,723 |  | 61,950

Dated: June 15, 2016.
Tammy Dean-Maxwell,
Project Clearance Liaison, NIGMS, NIH.

[FR Doc. 2016-14739 Filed 6-21-16; 8:45 am]

BILLING CODE 4140-01-P